DEPARTMENT OF ENERGY

Federal Energy Regulatory Commission Notice of Technical Conference

October 13, 2006.

Midwest Independent Transmission System Operator, Inc | Docket No. ER05-6-044, Docket No. ER05-6-054, Docket No. ER05-6-055.
Midwest Independent Transmission System Operator, Inc. and PJM Interconnection, L.L.C | Docket No. EL04-135-046, Docket No. EL04-135-056, Docket No. EL04-135-057.
Midwest Independent Transmission System Operator, Inc. and PJM Interconnection, L.L.C | Docket No. EL02-111-064, Docket No. EL02-111-074, Docket No. EL02-111-075.
Ameren Services Company | Docket No. EL03-212-060, Docket No. EL03-212-070, Docket No. EL03-212-071.

Take notice that the Commission will convene a technical conference on Tuesday, December 5, 2006, at 9 a.m., in room 3M-1 of the Federal Energy Regulatory Commission, 888 First Street, NE., Washington, DC 20426. As required by the September 21, 2006, order in Midwest Independent Transmission System Operator, Inc., 116 FERC ¶ 61,260 (2006), the conference will discuss proposals to allocate between Midwest Independent Transmission System Operator, Inc. and PJM Interconnection, L.L.C., the cost responsibility for constructing facilities that benefit both regional transmission organizations.

The conference is open for the public to attend. The conference will not be transcribed and telephone participation will not be available.

FERC conferences are accessible under section 508 of the Rehabilitation Act of 1973. For accessibility accommodations please send an e-mail to accessibility@ferc.gov or call toll free 1-866-208-3372 (voice) or 202-502-8659 (TTY).

For more information about the conference, please contact: Fernando Rodriguez at (202) 502-8231 or fernando.rodriguez@ferc.gov.

Magalie R. Salas,
Secretary.

[FR Doc. E6-17474 Filed 10-18-06; 8:45 am]

BILLING CODE 6717-01-P